DEPARTMENT OF ENERGY

Federal Energy Regulatory Commission

[Docket No. EL01-87-000]

South Eastern Energy Corporation and Morgan Stanley Capital Group Inc., Complainants, v. City of Dalton, GA, Georgia Transmission Corporation, Georgia Power Company, Municipal Electric Authority of Georgia, Respondents; Notice of Complaint

June 8, 2001.

Take notice that on June 6, 2001, South Eastern Electric Corporation (SEEC) and Morgan Stanley Capital Group Inc. (MSCG) (collectively Complainants), tendered for filing a complaint pursuant to Section 206 of the Federal Power Act against the City of Dalton, Georgia (Dalton), the Georgia Transmission Corporation (GTC), Georgia Power Company (Georgia Power), and the Municipal Electric Authority of Georgia (MEAG) (collectively the Georgia Interstate Transmission System (ITS) Members). Complainants contend that the ITS Members have treated Complainants' request to interconnect a new generation facility to the ITS in an unjust, unreasonable, and potentially unduly discriminatory and preferential manner in violation of the Federal Power Act.

Copies of the filing were served upon the City of Dalton, GTC, Georgia Power, and MEAG.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before June 18, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 18, 2001. Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15009 Filed 6-13-01 8:45 am]

BILLING CODE 6717-01-M